DEPARTMENT OF JUSTICE

National Institute of Corrections

Solicitation for a Cooperative Agreement—Executive Leadership Training for Women

AGENCY: National Institute of Corrections, Department of Justice.

ACTION: Solicitation for a cooperative agreement.

SUMMARY: The National Institute of Corrections (NIC) invites applications for a cooperative agreement to provide for the revision of the current curriculum for the program, Executive Leadership Training for Women, and to plan all aspects of program delivery for the leadership series. The cooperative agreement includes the delivery of Phase I of the program in fiscal year 2002.

The award recipient will become familiar with the work currently being done at NIC that provides for an understanding of the history and future development goals of the NIC Executive Leadership Training Program for Women. Through an NIC briefing and review of written materials the recipient will have access to the original design methodology and all aspects of curriculum development and delivery. The recipient will have the full benefit of the work in progress under the cooperative agreement, “Documentation of the Impact of NIC Executive Leadership Training for Women” that will provide for an assessment of the impact of the current program on graduates.

This project will be a collaborative venture with the NIC Prisons Division. NIC seeks to continue to offer the most current and effective leadership development for women in senior positions in corrections. A total of $120,000 is reserved for the project during fiscal years 2001 and 2002. The 2001 allocation is $40,000 and the 2002 allocation is $80,000. Funds are subject to congressional approval at the beginning of each fiscal year. The cooperative agreement funds are intended to support one cooperative agreement over an 18 month period. The recipient of the award will be selected through the competitive solicitation process.

Background

History

In the early 1990's the Prisons Division of the National Institute of Corrections made a commitment to a leadership development curriculum that would enhance the ability of women for executive level positions in corrections. Although some women were in mid-level management and executive positions, the gains realized during the previous 20 years seemed to be slowing. Noting the under-representation of women in executive positions NIC awarded a Cooperative Agreement to develop a competency-based executive leadership training program for women. The development of the program was divided into two phases: Needs assessment and curriculum design; and a pilot presentation. The program was originally designed for senior level women working in state departments of corrections. It quickly expanded to include professional women from jails and community corrections. Since the development of the core program, additional “phases” or training events have been added to further enhance the long-term development of the graduate and her contribution to her agency.

Curriculum Design

The curriculum design for Executive Leadership for Women was developed as a competency model based on research done with correctional visionaries and women in senior positions in correctional leadership. The administration of several assessment instruments created findings that formed the development of the competencies. Through one such instrument, Strategic Directions Questionnaire, correctional leaders identified 10 competencies as essential to a commissioner's future leadership effectiveness. From this, a Correctional Leadership Competency Model was developed. In this original research for the program 48 directors of corrections participated.

In addition, twenty women in correctional leadership positions (directors, deputy directors and regional directors of corrections) completed the Leadership 360™ questionnaire, a competency assessment instrument, which was used in conjunction with the Correctional Leadership Competency Model to identify the areas in which women most needed leadership development.

The three largest gap areas—strategic, communication and consensual—were given particular emphasis in the design of the training. All ten competencies were used in the development of the curriculum. Participants attending the program receive Leadership 360™ feedback, which includes a profile of the individual gap scores against the Correctional Leadership Competency Model.

A brief description of the phases offers an overwiew of the goals throughout the process. Classes are small, ranging from 20-22 participants. Participants return a year after the first five day program for the Phase II program, a three day event.

Phase I: Executive Leadership

This five-day program focuses on leadership development. A number of assessments, including the Leadership 360™ feedback, are combined with experiential activities and simulations to help participants gain understanding of their own behavior and leadership effectiveness. The program is highly individualized.

Phase II: Strategic Leadership

At the recommendation of Phase I participants, NIC funded a three-day follow-up training. Phase II emphasizes strategic thinking, the leaders' role in challenging and encouraging change within the organization, and the use of persuasion and consensual skills for managing change.

Phase I and II program participants overlap, thereby creating opportunities for the two classes to network and further build leadership capacity on a national level.

Phase III: Organizational Leadership

Note: Redevelopment of Phase III is not within the scope of this cooperative agreement activity.

With Phase III, NIC extended its leadership program to directors of corrections. Partnerships between Phase I and II participants and their directors are the cornerstone in building organizational competency. Phase III is focused on the dynamics of the organization, especially the use of innovative problem-solving, and the role of the executive team in creating effective vehicles for systemic change.

Scope of the Project

The National Institute of Corrections is interested in ideas the applicant may present that will maximize the opportunity to update the program content based on current research on women's leadership development. Applicants are encouraged to become not only familiar with the existing program model but also to explore a variety of program models that may enhance the existing program.

The work of this project will result in:

A. Background Summary for Women's Leadership Development Program

Development of a brief, research-based written overview that identifies the benefits of offering a program specific to women's leadership development. This document should include a review of leadership education principles or concepts as they apply to women's leadership development.

B. Curriculum Revision

Review of current Executive Leadership Training curriculum and the development of revised material or design model through one of the following ways:

Existing Model With Enhancements

• A review and update of the curriculum based on work being done by NIC on leadership competencies that will include an update of the research originally done to support the Correctional Leadership Model as well as recommendations from the information gathered during the course of this cooperative agreement.

Introduction of a New Model

• A review and update of the curriculum using a competency based leadership education model that can be modified to be corrections specific for women in senior management as well as recommendation from the information gathered during the course of this cooperative agreement.

Either approach to program design must include the following:

• A continuation of a two phase program design with an increased emphasis on project work and the use of technology as a tool to strengthen the application of program goals during the calendar year between the two phases.

• A program design that includes an increased emphasis on coaching and mentoring as an executive skill with practical applications.

• An updated participant manual and a faculty companion manual.

C. Training Evaluation Model

Recommendation for a training evaluation design for prospective use which will be developed in consultation with NIC and the provider of the NIC Cooperative Agreement, “Documentation of the Impact of NIC Executive Leadership Training for Women.”

D. Site Selection

Selection of site for Phase I program delivery. An important component to the success of the previous programs has been the effectiveness of the learning environment. The site description or recommendations included within the application of this cooperative agreement will be a consideration in the selection criteria. The learning environment must be a site that is conducive to outdoor experimental activities; individual quiet work; and provide space for small group break out space. The recommended site should be located within a one hour drive from a major airport.

E. Program Delivery

Delivery of Phase I in the summer of 2002 is a part of this agreement. Traditionally offered in June, the delivery of this program may be delivered between the months of June and September of 2002 to assure adequate program development time. The delivery of the Executive Leadership Training Program, Phase I includes preparation of program material, setting the agenda for and hosting a faculty planning meeting, negotiating faculty contracts and coordination of all on site logistics. Participant and faculty travel is managed and funded separately by NIC. Participant lodging and meals are funded within this agreement based on government per diem.

Required Project Activities

A. Identification of women's leadership training programs in the private or public sector to provide background for further understanding of the role of such programs in Executive Leadership and to review various models.

B. If an award has been made, attendance of the primary team members at the June 20-24, 2001 class at the Searles Castle in Salem, New Hampshire to allow for a more in depth orientation to the current program and to participate in a focus group with graduates and the provider for the “Documentation of the Impact of NIC Executive Leadership Training for Women.” (If an award has not been made by that date, one team member, preferably the project director, from the top three applicants will be invited at NIC's expense to observe aspects of the program.)

C. Initial meeting with NIC, the current provider of the training, and the awardee of the Cooperative Agreement, “Documentation of the Impact of NIC Executive Leadership for Women” for an overview of program's history, development and current goals. This commitment may be met under item B above, if a final award has been made.

D. All activities necessary to meet the goals under Scope of Project. Inclusion of a person on the project team with recent experience in developing leadership programs for and/or conducting training for executive women is desirable.

E. Collaborating with NIC and the awardee of the cooperative agreement entitled “Documentation of the Impact of NIC Executive Leadership Training for Women,” announced in the February 2001 Federal Register. This collaboration will be for the purpose of sharing information for program development.

Authority: Public Law 93-415.

Funds Available: The award will be limited to $120,000 (direct and indirect costs) and project activity must be completed within 18 months of the date of award. Participant and faculty travel for the delivery of Phase I is not included in the funding for this project. This project will be a collaborative venture with the NIC Prisons Division. Funds will be allocated for fiscal year 2001, at $40,000 and fiscal year, 2002 at $80,000.

Application Requirements: The successful applicant will propose a project approach that will ensure accomplishment of each of the stated desired outcomes under the section Scope of the Project within this announcement. The applicant will assure that the project team offers technical expertise in the areas of program development, leadership education specific to the development of women in leadership, and administrative capabilities to coordinate all logistical requirements of the project. The project staff identified must indicate a willingness to the commitment of time necessary to complete the project plan.

The success of the work under this project is critical to the further development of NIC's leadership series for executive women. This announcement is running concurrently with the NIC cooperative agreement entitled “Documentation of the Impact of the NIC Executive Leadership Training for Women.” Successful applicants for each of these related projects must be willing to work in collaboration to provide for coordinated information sharing in the curriculum refinement goals of NIC. The NIC Program Manager will be responsible for assuring adequate opportunities for coordination.

Deadline for Receipt of Applications: Applications must be received by 1 p.m. on Tuesday, May 29, 2001. They should be addressed to: Director, National Institute of Corrections, 320 First Street, NW., Room 5007, Washington, DC 20534. Hand delivered applications should be brought to 500 First Street, NW., Washington, DC 20534. The front desk will call Bobbi Tinsley at (202) 307-3106, extension 0 for pickup.

Addresses and Further Information: A copy of this announcement, application forms, and information on the current NIC Executive Leadership Training for Women Program may be obtained through the NIC web site: http://www.nicic.org (click on “Cooperative Agreements”). If a written copy is needed contact Judy Evens, Cooperative Agreement Control Office (1-800-995-6423 ext. 44222 or (202) 307-3106 ext. 44222, e-mail at jevens@bop.gov.) All technical and/or programmatic questions concerning this announcement should be directed to Andie Moss, at 320 First Street, NW., Room 5007, Washington, DC 20534 or by calling 800-995-6423, ext. 30485, 202-307-3106, ext. 30485, or e-mail: amoss@bop.gov.

Eligibility Applicants: An eligible applicant is any State or general unit of local government, public or private agency, educational institution, organization, team, or individual with the requisite skills to successfully meet the outcome objectives of the project.

Review Considerations: Applications received under this announcement will be subjected to an NIC 3 to 5 member Peer Review Process.

Number of Awards: One (1).

NIC Application Number: 01P04. This number should appear as a reference line in your cover letter and also in box 11 of Standard Form 424.

Executive Order 12372: This program is subject to the provisions of Executive Order 12372. Executive Order 12372 allows States the option of setting up a system for reviewing applications from within their States for assistance under certain Federal programs. Applicants (other than Federally-recognized Indian tribal governments) should contact their State Single Point of Contact (SPOC), a list of which is included in the application kit, along with further instructions on proposed projects serving more than one State.

(Catalog of Federal Domestic Assistance Number: 16.603)
Dated: April 25, 2001.
Morris L. Thigpen,
Director, National Institute of Corrections.

[FR Doc. 01-10759 Filed 4-30-01; 8:45 am]

BILLING CODE 4410-36-M